DEPARTMENT OF AGRICULTURE

Foreign Agricultural Service

Reestablishment of the Edward R. Madigan United States Agricultural Export Excellence Award Board of Evaluators

AGENCY: Foreign Agricultural Service, USDA.

ACTION: Notice to reestablish board of evaluators.

SUMMARY: Notice is hereby given that the Secretary of Agriculture intends to reestablish the Edward R. Madigan United States Agricultural Export Excellence Award Board of Evaluators. The Secretary of Agriculture has determined that the Board is necessary and in the public interest.

FOR FURTHER INFORMATION CONTACT: Marketing Operations Staff, Foreign Agricultural Service, USDA, Room 4932, 1400 Independence Ave., SW., Washington, DC 20250-10442, telephone: (202) 720-4327, fax: (202) 720-9361, E-mail: mosdamin@fas.usda.gov.

SUPPLEMENTARY INFORMATION: The purpose of the Edward R. Madigan United States Agricultural Export Excellence Award Board of Evaluators is to advise the Secretary of Agriculture on the selection of recipients for the Edward R. Madigan United States Agricultural Export Excellence Award.

Dated: April 15, 2005.
A. Ellen Terpstra,
Administrator, Foreign Agricultural Service.

[FR Doc. 05-8480 Filed 4-27-05; 8:45 am]

BILLING CODE 3410-10-P